DEPARTMENT OF ENERGY

Federal Energy Regulatory Commission

[Docket Nos. CP05-91-000; CP05-380-000]

Calhoun LNG, L.P., Point Comfort Pipeline Company, L.P.; Notice of Availability of the Final Environmental Impact Statement for the Proposed Calhoun LNG Terminal and Pipeline Project

August 10, 2007.

The staff of the Federal Energy Regulatory Commission (FERC or Commission) has prepared this Final Environmental Impact Statement (EIS) for a liquefied natural gas (LNG) import terminal and natural gas pipeline facilities proposed by Calhoun LNG, L.P. and Point Comfort Pipeline Company, L.P. (collectively referred to as Calhoun Point Comfort) in the above-referenced dockets. The Calhoun LNG Terminal and Pipeline Project (Project) would be located in Calhoun and Jackson Counties, Texas.

The Final EIS was prepared to satisfy the requirements of the National Environmental Policy Act (NEPA). The FERC staff concludes that the proposed Project, with the appropriate mitigation measures as recommended, would have limited adverse environmental impact.

The U.S. Army Corps of Engineers (Corps), U.S. Coast Guard, (Coast Guard), U.S. Fish and Wildlife Service (FWS); National Oceanic and Atmospheric Administration, National Marine Fisheries Service (NOAA Fisheries); U.S. Environmental Protection Agency (EPA); and the U.S. Department of Transportation (DOT) are federal cooperating agencies for the development of this EIS. A federal cooperating agency has jurisdiction by law or special expertise with respect to any environmental impact involved with the proposal and is involved in the NEPA analysis.

The general purpose of the proposed Project is to import, store, and vaporize on average about 1.0 billion cubic feet per day (bcfd) of LNG to provide a competitive supply of natural gas to local industrial customers and to deliver natural gas into existing interstate and intrastate natural gas pipelines.

The Final EIS addresses the potential environmental impacts from the construction and operation of the following facilities:

• A new marine terminal on the southeastern shore of Lavaca Bay, south of Point Comfort, in Calhoun County, Texas that could accommodate about 120 LNG vessels per year;

• two full containment LNG storage tanks each with a nominal working volume of approximately 160,000 m³ (1,006,000 barrels equivalent);

• associated LNG vaporization and processing equipment;

• an approximately 27.1-mile-long, 36-inch-diameter natural gas pipeline extending northward from the LNG terminal to natural gas pipeline interconnects southwest of Edna, Texas;

• a 0.25-mile-long, 8-inch-diameter natural gas pipeline lateral extending from the proposed pipeline to a meter station servicing the Formosa Hydrocarbons Company (Formosa Lateral);

• a 0.25-mile-long, 16-inch-diameter natural gas pipeline lateral extending from the proposed pipeline to a meter station servicing the Transcontinental Gas Pipeline Corporation (Transco Lateral);

• ten delivery points/interconnects; and

• associated pipeline facilities including pig launcher and receiver facilities and three mainline valves.

In a separate, but related action, the Calhoun County Navigational District (CCND) would dredge a turning basin and ship berth affecting about 49 acres of Lavaca Bay, resulting in the need to dispose of approximately 2.7 million cubic yards of dredged material. This activity is essential to the operation of the Calhoun LNG Project. Calhoun Point Comfort would use the CCND's turning basin to maneuver its LNG ships.

Dependent upon Commission approval, Calhoun Point Comfort anticipates it would complete construction and begin operating the proposed Project in 2010.

The Final EIS has been placed in the public files of the FERC and is available for public inspection at: Federal Energy Regulatory Commission, Public Reference Room, 888 First Street NE., Room 2A, Washington, DC 20426, (202) 502-8371.

A limited number of copies of the Final EIS are available from the Public Reference Room identified above. In addition, the Final EIS has been mailed to affected landowners; various federal, state, and local government agencies; elected officials; environmental and public interest groups; Native American tribes; local libraries and newspapers; intervenors; and other individuals that expressed an interest in the proposed Project.

In accordance with the Council on Environmental Quality's (CEQ) regulations implementing NEPA, no agency decision on a proposed action may be made until 30 days after the EPA publishes a notice of availability of a Final EIS. However, the CEQ regulations provide an exception to this rule when an agency decision is subject to a formal internal process that allows other agencies or the public to make their views known. In such cases, the agency decision may be made at the same time the notice of the Final EIS is published, allowing both periods to run concurrently. Should the FERC issue Calhoun Point Comfort authorizations for the proposed Project, it would be subject to a 30-day rehearing period. Therefore, the Commission could issue its decision concurrently with the EPA's notice of availability.

Additional information about the proposed Project is available from the Commission's Office of External Affairs, at 1-866-208-FERC or on the FERC Internet Web site (http://www.ferc.gov). To access information via the FERC Web site click on the “eLibrary” link then click on “General Search” and enter the docket number (CP05-91) excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary .

[FR Doc. E7-16252 Filed 8-17-07; 8:45 am]

BILLING CODE 6717-01-P